DEPARTMENT OF DEFENSE

Office of the Secretary

Proposed Collection; Comment Request

AGENCY: Office of the Assistant Secretary of Defense (Health Affairs), DoD.

ACTION: Notice.

SUMMARY: In compliance with section 3506(c)(2)(A) of the Paperwork Reduction Act of 1995, the Office of the Assistant Secretary of Defense (Health Affairs) announces a proposed information collection and seeks public comment on the provisions thereof. Comments are invited on: (a) Whether the proposed collection of information is necessary for the proper performance of the functions of the agency, including whether the information shall have practical utility; (b) the accuracy of the agency's estimate of the burden of the proposed information collection (c) ways to enhance the quality, utility, and clarity of the information to be collected; and (d) ways to minimize the burden of the information collection on respondents, including the use of automated collection techniques or other forms of information technology.

DATES: Consideration will be given to all comments received by May 20, 2003.

ADDRESSES: Written comments and recommendations on the continuing information collection should be sent to the TRICARE Management Activity, Operations Directorate, Attn: Danita Hunter, 5111 Leesburg Pike, Suite 810, Falls Church, VA 22041.

FOR FURTHER INFORMATION CONTACT: To request more information on this information collection, please write to the above address or contact Danita Hunter by calling (703) 681-0039 or e-mail at danita.hunter@tma.osd.mil.

Title, Associated Form and OMB Number: Women, Infant, and Children Overseas Program (WIC Overseas) Eligibility Application.

Needs and Uses: The proposed information collection requirement is necessary for individuals to apply for certification and periodic recertification to receive WIC Overseas benefits.

Affected Public: Individuals.

Annual Burden Hours: 187.5.

Number of Respondents: 375.

Responses Per Respondent: 2.

Average Burden Per Response: 15 minutes.

Frequency: Initially and every six months.

SUPPLEMENTARY INFORMATION:

Summary of Collection

The purpose of the program is to provide supplemental foods and nutrition education to serve as an adjunct to good health care during critical times of growth and development, in order to prevent the occurrence of health problems, including drug and other substance abuse, and to improve the health status of program participants. The benefit is similar to the benefit provided under the domestic WIC program.

Summary of Information Collection

Respondents are individuals on duty at stations outside the United States (and its territories and possessions) accompanying the armed forces who desire to receive supplemental food and nutrition education services. To be eligible for the DoD special supplemental food program, these persons applying must additionally be found to be at nutritional risk. Specifically, to be certified as eligible to receive benefits under the program, a person must:

• Meet specified program income guidelines published by the Secretary of Health and Human Services, and

• Meet one of the criteria listed determined to be indicative of nutritional risk.

Determinations of income eligibility and nutritional risk will be made to the extent practicable using applicable standards used by the United States Department of Agriculture (USDA) in determining eligibility for the domestic Women, Infants, and Children (WIC) program. In determining income eligibility, the Department will use the Department of Health and Human Services income poverty table for the state of Alaska.

Dated: February 21, 2003.
Patricia L. Toppings,
Alternate OSD Federal Register, Liaison Officer, Department of Defense.

[FR Doc. 03-6765 Filed 3-20-03; 8:45 am]

BILLING CODE 5001-08-M